DEPARTMENT OF THE INTERIOR

Minerals Management Service

Environmental Documents Prepared for Proposed Oil, Gas, and Mineral Operations by the Gulf of Mexico Outer Continental Shelf (OCS) Region

AGENCY: Minerals Management Service, Interior.

ACTION: Notice of the Availability of Environmental Documents Prepared for OCS Mineral Proposals by the Gulf of Mexico OCS Region.

SUMMARY: Minerals Management Service (MMS), in accordance with Federal Regulations that implement the National Environmental Policy Act (NEPA), announces the availability of NEPA-related Site-Specific Environmental Assessments (SEA) and Findings of No Significant Impact (FONSI), prepared by MMS for the following oil-, gas-, and mineral-related activities proposed on the Gulf of Mexico and Atlantic OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration, development, production, and transport of oil, gas, and mineral resources on the Federal OCS and decommissioning of production facilities. These SEAs examine the potential environmental effects of activities described in the proposals and present MMS conclusions regarding the significance of those effects. Environmental Assessments are used as a basis for determining whether or not approvals of the proposals constitute major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

Activity/operator | Location | Date
Maritech Resources, Inc., Structure Removal, SEA ES/SR 09-034 | East Cameron, Block 195, Lease OCS-G 00958, located 58 miles from the nearest Louisiana shoreline | 4/1/2009
McMoran Oil & Gas, LLC, Structure Removal, SEA ES/SR 09-036 | East Cameron, Block 151, Lease OCS-G 05372, located 46 miles from the nearest Louisiana shoreline | 4/2/2009
Devon Energy Production Company, L.P., Structure Removal, SEA ES/SR APM EI119-007 | Eugene Island, Block 119, Lease OCS-G 00049, located 22 miles from the nearest Louisiana shoreline | 4/2/2009
EMGS Americas, Geological & Geophysical Prospecting for Mineral Resources, SEA M09-02 | Located in the Eastern Gulf of Mexico, south of Pensacola, Florida | 4/2/2009
McMoran Oil & Gas, LLC, Structure Removal, SEA ES/SR 09-042 | Ship Shoal, Block 139, Lease OCS-G 21115, located 21 miles from the nearest Louisiana shoreline | 4/2/2009
Chevron U.S.A., Inc., Structure Removal, SEA ES/SR 08-087A | Vermilion, Block 245, Lease OCS-G 01146, located 64 miles from the nearest Louisiana shoreline | 4/2/2009
McMoran Oil & Gas, LLC, Structure Removal, SEA ES/SR 08-169A | West Cameron, Block 43, Lease OCS-G 16107, located 5 miles from the nearest shoreline | 4/2/2009
Helis Oil & Gas Company, Structure Removal, SEA ES/SR 08-161A | East Cameron, Block 131, Lease OCS-G 21068, located 38 miles from the nearest Louisiana shoreline | 4/6/2009
Energy XXI GOM, LLC, Structure Removal, SEA ES/SR 09-024 | East Cameron, Block 335, Lease OCS-G 02439, located 108 miles from the nearest Louisiana shoreline | 4/6/2009
Chevron U.S.A., Inc., Structure Removal, SEA ES/SR 97-096A, 09-035 | Bay Marchand, Block 2, Lease OCS-G 00369, located 4 miles from the nearest Louisiana shoreline | 4/8/2009
McMoran Oil & Gas, Structure Removal, SEA ES/SR 09-037 | West Cameron, Block 176, Lease OCS-G 00762, located 24 miles from the nearest Louisiana shoreline | 4/8/2009
Chevron U.S.A., Inc., Structure Removal, SEA ES/SR 09-056 | South Timbalier, Block 47, Lease OCS-G 21664, located 12 miles from the nearest Louisiana shoreline | 4/12/2009
Callon Petroleum Operating Company, Structure Removal, SEA ES/SR 09-050 | East Cameron, Block 90, Lease OCS-G 22576, located 22 miles from the nearest Louisiana shoreline | 4/13/2009
SPN Resources, LLC, Structure Removal, SEA ES/SR 09-052 | Eugene Island, Block 100, Lease OCS-G 00796, located 19 miles from the nearest shoreline | 4/13/2009
Nippon Oil Exploration U.S.A. Limited, Structure Removal, SEA ES/SR 09-065 | West Cameron, Block 537, Lease OCS-G 02551, located 90 miles from the nearest Louisiana shoreline | 4/13/2009
Nippon Oil Exploration U.S.A. Limited, Structure Removal, SEA ES/SR 09-066 | West Cameron, Block 537, Lease OCS-G 02551, located 98 miles from the nearest Louisiana shoreline | 4/13/2009
Maritech Resources, Inc., Structure Removal, SEA ES/SR 09-043 & 09-044 | Main Pass, Block 181, Lease OCS-G 12092, located 43 miles from the nearest Louisiana shoreline | 4/14/2009
SPN Resources, LLC, Structure Removal, SEA ES/SR 09-052A | Eugene Island, Block 100, Lease OCS-G 00796, located 19 miles from the nearest Louisiana shoreline | 4/15/2009
W&T Offshore, Inc., Structure Removal, SEA ES/SR 09-053 | South Marsh Island, Block 028, Lease OCS-G 09536, located 50 miles from the nearest Louisiana shoreline | 4/15/2009
Energy Resource Technology GOM, Structure Removal, SEA ES/SR 09-081 | South Marsh Island, Block 113, Lease OCS-G 23842, located 70 miles from the nearest Louisiana shoreline | 4/15/2009
W & T Offshore, Inc., Structure Removal, SEA ES/SR 09-054 & 09-055 | Vermilion, Block 84, Lease OCS-G 03124, located 23 miles from the nearest Louisiana shoreline | 4/15/2009
Noble Energy, Inc., Structure Removal, SEA ES/SR 09-060 & 09-061 & 09-062 | Brazos, Blocks A52, A53 and A51, respectively, Leases OCS-G 06085, 06086 and 08549, respectively, located 44 miles from the nearest Louisiana shoreline | 4/17/2009
McMoran Oil & Gas, LLC, Structure Removal, SEA ES/SR 09-039 | East Cameron, Block 151, Lease OCS-G 05372, located 55 miles from the nearest Louisiana shoreline | 4/17/2009
W & T Offshore, Inc., Structure Removal, SEA ES/SR 09-068 | Eugene Island, Block 29, Lease OCS-G 23854, located 12 miles from the nearest Louisiana shoreline | 4/17/2009
W & T Offshore, Inc., Structure Removal, SEA ES/SR 09-084 | High Island (East Addition), Block 84, Lease OCS-G 18948, located 20 miles from the nearest Texas/Louisiana shoreline | 4/17/2009
W & T Offshore, Inc., Structure Removal, SEA ES/SR 09-075 | High Island (East Addition), Block 85, Lease OCS-G 21349, located 32 miles from the nearest Texas/Louisiana shoreline | 4/17/2009
Kerr McGee Oil and Gas Corporation, Structure Removal, SEA ES/SR 09-051 | High Island, Block 21, Lease OCS-G 06136, located 10 miles from the nearest Louisiana shoreline | 4/17/2009
Energy Resource Technology GOM, Inc., Structure Removal, SEA ES/SR 09-080 | South Marsh Island, Block 24, Lease OCS-G 22643, located 35 miles from the nearest Louisiana shoreline | 4/17/2009
Chevron U.S.A., Inc., Structure Removal, SEA ES/SR 09-056 | South Timbalier, Block 47, Lease OCS-G 21664, located 12 miles from the nearest Louisiana shoreline | 4/17/2009
Energy Resource Technology GOM, Inc., Structure Removal, SEA ES/SR 09-074 | Vermilion, Block 250, Lease OCS-G 27027, located 65 miles from the nearest Louisiana shoreline | 4/17/2009
Energy Resource Technology GOM, Inc., Structure Removal, SEA ES/SR 09-057 | Vermilion, Block 64, Lease OCS-G 22608, located 18 miles from the nearest Louisiana shoreline | 4/17/2009
Energy Resource Technology GOM, Inc., Structure Removal, SEA ES/SR 09-071 & 09-077 | West Cameron (West Addition), Block 331, Lease OCS-G 03275, located 48 miles from the nearest Louisiana shoreline | 4/17/2009
SPN Resources, LLC, Structure Removal, SEA ES/SR 07-041A & 07-042A | West Cameron, Block 280, Lease OCS-G 00911, located 64 miles from the nearest Louisiana shoreline | 4/20/2009
Energy Resource Technology GOM, Inc., Structure Removal, SEA ES/SR 09-082 | East Cameron, Block 364, Lease OCS-G 21080, located 92 miles from the nearest Louisiana shoreline | 4/28/2009
Apache Corporation, Structure Removal, SEA ES/SR 09-087 | Eugene Island, Block 176, Lease OCS-G 00445, located 44 miles from the nearest Louisiana shoreline | 4/28/2009
Sterling Energy, Inc., Structure Removal, SEA ES/SR 09-092 | Eugene Island, Block 268, Lease OCS-G 16363, located 20 miles from the nearest Louisiana shoreline | 4/28/2009
Apache Corporation, Structure Removal, SEA ES/SR 09-086 & 09-090 | Matagorda Island, Block 638, Lease OCS-G 06044, located 28 miles from the nearest Texas shoreline | 4/28/2009
GOM Shelf, LLC, Structure Removal, SEA ES/SR 09-089 | Matagorda Island, Block 700, Lease OCS-G 03108, located 20 miles from the nearest Texas shoreline | 4/28/2009
Energy Resource Technology GOM, Structure Removal, SEA ES/SR 09-058 | South Timbalier, Block 138, Lease OCS-G 22741, located 32 miles from the nearest Louisiana shoreline | 4/28/2009
Energy Resource Technology GOM, Inc., Structure Removal, SEA ES/SR 09-073 | East Cameron, Block 169, Lease OCS-G 23797, located 58 miles from the nearest Louisiana shoreline | 5/1/2009
Energy Resource Technology GOM, Inc., Structure Removal, SEA ES/SR 09-072 | West Cameron, Block 403, Lease OCS-G 24740, located 68 miles from the nearest Louisiana shoreline | 5/1/2009
Badger Oil Corporation, Structure Removal, SEA ES/SR 09-076 | Ship Shoal, Block 62, Lease OCS-G 21650, located 7.7 miles from the nearest Louisiana shoreline | 5/5/2009
Chevron U.S.A., Inc., Structure Removal, SEA ES/SR 09-095 | Eugene Island, Block 294, Lease OCS-G 03569, located 73 miles from the nearest Louisiana shoreline | 5/6/2009
Chevron U.S.A., Inc., Structure Removal, SEA ES/SR 09-098 | Eugene Island, Block 64, Lease OCS-G 01865, located 14 miles from the nearest Louisiana shoreline | 5/6/2009
Stone Energy Corporation, Structure Removal, SEA ES/SR 09-101 | Ship Shoal, Block 92, Lease OCS-G 05541, located 15 miles from the nearest Louisiana shoreline | 5/6/2009
Chevron U.S.A., Inc., Structure Removal, SEA ES/SR 09-094 | South Marsh Island, Block 236, Lease OCS-G 00310, located 10 miles from the nearest Louisiana shoreline | 5/7/2009
Energy Resource Technology GOM, Inc., Structure Removal, SEA ES/SR 09-078 & 09-079 | Brazos, Blocks 436 & 437, respectively, Leases OCS-G 04258 & 04140 (expired) respectively, Platform A is located 14 miles from the nearest Texas shoreline & the Platform 7 is located 12 miles from the nearest Texas shoreline | 5/8/2009
Murphy Exploration & Production Company-USA, Initial Exploration Plan, SEA N-9352 | DeSoto Canyon, Block 927, Lease OCS-G 32396, located 105 miles from the nearest Louisiana shoreline, 154 miles from the nearest Mississippi shoreline, 151 miles from the nearest Alabama shoreline and 155 miles from the nearest Florida shoreline | 5/8/2009
Wild Well Control, Inc., Structure Removal, SEA ES/SR 09-099 | Grand Isle, Block 40, Lease OCS-G 00128, located 14 miles from the nearest Louisiana shoreline | 5/8/2009
Gryphon Exploration Company, Structure Removal, SEA ES/SR 09-097 | West Cameron (South Addition), Block 489, Lease OCS-G 24760, located 90 miles from the nearest Louisiana shoreline | 5/8/2009
Beryl Oil and Gas LP, Structure Removal, SEA ES/SR 08-128A | Chandeleur, Block 38, Lease OCS-G 07836, located 33 miles from the nearest Louisiana shoreline | 5/11/2009
W & T Offshore, Inc., Structure Removal, SEA ES/SR 09-032A | Ship Shoal, Block 202, Lease OCS-G 05558, located 54 miles from the nearest Louisiana shoreline | 5/12/2009
Fugro Airborne Surveys, Inc., Geological & Geophysical Exploration for Mineral Resources, SEA E09-04 | Located on the Outer Continental Shelf (OCS) of the Atlantic Ocean | 5/13/2009
Chevron U.S.A., Inc., Structure Removal, SEA ES/SR 09-096 | Eugene Island, Block 339, Lease OCS-G 02318, located 83 miles from the nearest Louisiana shoreline | 5/14/2009
Chevron U.S.A., Inc., Revised Exploration Plan, SEA R-4942 AA | Located in the Central Planning Area of the Gulf of Mexico, located 137 miles offshore, south of Morgan City, Louisiana | 5/14/2009
Union Oil Company of California (Unocal), Structure Removal, SEA ES/SR 09-093 | Mobile, Block 961, Lease OCS-G 05761, located 9 miles from the nearest Mississippi shoreline | 5/14/2009
Eni US Operating Co., Inc., Structure Removal, SEA ES/SR 08-148A | Ship Shoal (South Addition), Block 246, Lease OCS-G 01027, located 55 miles from the nearest Louisiana shoreline | 5/14/2009
McMoran Oil & Gas, LLC, Structure Removal, SEA ES/SR 09-083 | Vermilion, Block 407, Lease OCS-G 16317, located 34 miles from the nearest Louisiana shoreline | 5/14/2009
ExxonMobil Production Company, Structure Removal, SEA ES/SR 09-022A | West Delta, Block 100, Lease OCS-G 03188, located 21 miles from the nearest Louisiana shoreline | 5/14/2009
Stone Energy Corporation, Structure Removal, SEA ES/SR 09-104 | South Timbalier, Block 34, Lease OCS-G 04842, located 9 miles from the nearest Louisiana shoreline | 5/19/2009
Ridgelake Energy, Inc., Structure Removal, SEA ES/SR 08-022A | High Island, Block A352, Lease OCS-G 24424, located 102 miles from the nearest Texas shoreline | 5/21/2009
Apache Corporation, Structure Removal, SEA ES/SR 09-088 | Main Pass, Block 91, Lease OCS-G 14576, located 31 miles from the nearest Louisiana shoreline | 5/21/2009
Devon Energy Production Company, LP, Lease-Term Pipeline Bundle Application, SEA P-17473 & P-17474 | Mobile, Block 826, OCS-G 26176 to Alabama State waters Mobile Bay, Block 113, located 4 miles from the nearest Alabama shoreline | 5/21/2009
Apache Corporation, Structure Removal, SEA ES/SR 09-085 | Mustang Island, Block 757, Lease OCS-G 03019, located 28 miles from the nearest Texas shoreline | 5/21/2009
W & T Offshore, Inc., Structure Removal, SEA ES/SR 09-063 | Vermilion, Block 115, Lease OCS-G 17896, located 30 miles from the nearest Louisiana shoreline | 5/21/2009
Maritech Resources, Inc., Structure Removal, SEA APM MP263-001 | Main Pass, Block 263, Lease OCS-G 23992, located 48 miles from the nearest Louisiana shoreline | 5/21/2009
Merit Energy Company, Structure Removal, SEA ES/SR 09-100 | Eugene Island, Block 288, Lease OCS-G 06045, located 59 miles from the nearest Louisiana shoreline | 5/22/2009
Knight Resources, Inc., Structure Removal, SEA ES/SR 09-106 | Viosca Knoll, Block 77, Lease OCS-G 26189, located 49 miles from the nearest Louisiana shoreline | 5/22/2009
El Paso E&P Company, L.P., Structure Removal, SEA ES/SR 09-105 | West Cameron, Block 53, Lease OCS-G 04379, located 10 miles from the nearest Louisiana shoreline | 5/22/2009
Knight Resources, Inc., Structure Removal, SEA ES/SR 09-107 | Viosca Knoll, Block 432, Lease OCS-G 26198, located 45 miles from the nearest Alabama shoreline | 6/2/2009
Energy Partners, Ltd., Structure Removal, SEA ES/SR 08-156A | Vermilion, Block 320, Lease OCS-G 02087, located 87 miles from the nearest Louisiana shoreline | 6/3/2009
Noble Energy, Inc., Structure Removal, SEA ES/SR 09-110, 09-111 & 09-112 | Main Pass (South Addition), Blocks 305 and 306, Leases OCS-G 01676 and 01677, located 30 miles from the nearest Louisiana shoreline | 6/4/2009
Nippon Oil Exploration U.S.A., Limited, Structure Removal, SEA ES/SR 09-064 | West Cameron, Block 537, Lease OCS-G 02551, located 90 miles from the nearest Louisiana shoreline | 6/4/2009
Energy XXI GOM, LLC, Structure Removal, SEA ES/SR 09-023B | Eugene Island, Block 256, Lease OCS-G 2102, located 53 miles from the nearest Louisiana shoreline | 6/9/2009
Energy Resources Technology GOM, Inc. Structure Removal, SEA ES/SR 09-069 | Eugene Island, Block 302, Lease OCS-G 21642, located 65 miles from the nearest Louisiana shoreline | 6/12/2009
Energy Resources Technology GOM, Inc. Structure Removal, SEA ES/SR 09-070 | Ship Shoal, Block 224, Lease OCS-G 01023, located 44 miles from the nearest Louisiana shoreline | 6/12/2009
Energy XXI GOM, LLC, Structure Removal, SEA ES/SR 09-024A | East Cameron, Block 335, Lease OCS-G 02439, located 108 miles from the nearest Louisiana shoreline | 6/14/2009
McMoran Oil & Gas, LLC, Structure Removal, SEA ES/SR 09-115A | East Cameron, Block 267, Lease OCS-G 16267, located 87 miles from the nearest Louisiana shoreline | 6/15/2009
Helis Oil & Gas Company, L.L.C., Structure Removal, SEA ES/SR 09-102 | Eugene Island, Block 45, Right-of-Use and Easement No. G30009, located 18 miles from the nearest Louisiana shoreline | 6/15/2009
Chevron U.S.A., Inc., Structure Removal, SEA ES/SR 07-089 | Garden Banks, Block 236, Lease OCS-G 23582, located 148 miles from the nearest Louisiana shoreline | 6/15/2009
SPN Resources, LLC, Structure Removal, SEA ES/SR 09-113 | Ship Shoal, Block 167, Lease OCS-G 00818, located 27 miles from the nearest Louisiana shoreline | 6/15/2009
Apex Oil & Gas, Inc., Structure Removal, SEA ES/SR 09-120 | West Cameron, Block 229, Lease OCS-G 31293, located 42 miles from the nearest Louisiana shoreline | 6/15/2009
Tarpon Operating & Development, L.L.C., Structure Removal, SEA ES/SR 09-128 | East Cameron, Block 311, Lease OCS-G 25969, located 95 miles from the nearest Louisiana shoreline | 6/17/2009
Seabird Exploration FZ LLC, Geological & Geophysical Prospecting for Mineral Resources, SEA L09-16 | Located in the Central Gulf of Mexico south of Port Fourchon, Louisiana | 6/17/2009
Western Geco, LLC, Geological & Geophysical Exploration for Mineral Resources, SEA L09-17 | Located in the Western/Central Gulf of Mexico south of Intracoastal City, Louisiana | 6/17/2009
Century Exploration New Orleans, Inc., Structure Removal, SEA ES/SR 09-103 | West Cameron, Block 368, Lease OCS-G 05315, located 63 miles from the nearest Louisiana shoreline | 6/17/2009
Fairways Offshore Exploration, Inc., Structure Removal, SEA ES/SR 09-126 | South Timbalier, Block 245, Lease OCS-G 05625, located 59 miles from the nearest Louisiana shoreline | 6/19/2009
W & T Offshore, Inc., Structure Removal, SEA ES/SR 09-108 & 09-109 | Vermilion, Block 115, Lease OCS-G 17896, located 30-35 miles from the nearest Louisiana shoreline | 6/19/2009
Nippon Oil Exploration U.S.A. Limited, Structure Removal, SEA ES/SR 04-038A | West Cameron, Block 533, Lease OCS-G 02225, located 89 miles from the nearest Louisiana shoreline | 6/19/2009
Nippon Oil Exploration U.S.A. Limited, Structure Removal, SEA ES/SR 09-067 | West Cameron, Block 549, Lease OCS-G 16203, located 100 miles from the nearest Louisiana shoreline | 6/19/2009
McMoran Oil & Gas, Structure Removal, SEA ES/SR 09-49 | Brazos, Block A-23, Lease OCS-G 03938, located 38 miles from the nearest Texas shoreline | 6/24/2009
Energy Partners, LTD, Structure Removal, SEA ES/SR 08-138A | East Cameron (South Addition), Block 263, Lease OCS-G 15417, located 88 miles from the nearest Louisiana shoreline | 6/24/2009
SPN Resources, LLC, Structure Removal, SEA ES/SR 09-127 | Ship Shoal, Block 73, Lease OCS-G 22697, located 13 miles from the nearest Louisiana shoreline | 6/24/2009
Samson Contour Energy E & P, LLC, Structure Removal, SEA ES/SR 09-121 & 09-122 | Vermilion, Block 217, Lease OCS-G 01141, located 60 miles from the nearest Louisiana shoreline | 6/24/2009
McMoran Oil & Gas, Structure Removal, SEA ES/SR 09-116 & 09-117 | Main Pass, Block 86, Lease OCS-G 19852, located 25 and 48 miles from the nearest Louisiana shoreline | 6/26/2009
W & T Offshore, Inc., Structure Removal, SEA ES/SR 09-031 | Ship Shoal, Block 202, Lease OCS-G 05558, located 54 miles from the nearest Louisiana shoreline | 6/26/2009
SPN Resources, LLC, Structure Removal, SEA ES/SR 09-114 | Vermilion, Block 306, Lease OCS-G 21095, located 34 miles from the nearest Louisiana shoreline | 6/26/2009
Energy Parnters, Ltd., Structure Removal, SEA ES/SR 08-151A | West Cameron, Block 98, Lease OCS-G 12757, located 13 miles from the nearest Louisiana shoreline | 6/26/2009
McMoran Oil & Gas, LLC, Structure Removal, SEA ES/SR 09-118 | High Island, Block 131, Lease OCS-G 24393, located 30 miles from the nearest Texas shoreline | 6/29/2009
Apex Oil & Gas, Inc., Structure Removal, SEA ES/SR 09-138 | Vermilion, Block 128, Lease OCS-G 17897, located 38 miles from the nearest Louisiana shoreline | 6/29/2009
Stone Energy Corporation, Structure Removal, SEA ES/SR 09-134 | Ship Shoal, Block 117, Lease OCS-G 00065, located 18 miles from the nearest Louisiana shoreline | 6/30/2009
EOG Resources, Inc., Structure Removal, SEA ES/SR 09-129 | Viosca Knoll, Block 74, Lease OCS-G 07878, located 21 miles from the nearest Alabama shoreline | 6/30/2009
Anglo-Suisse Offshore Partners, LLC, Structure Removal, SEA ES/SR 06-113A | West Delta (South Addition), Block 117, Lease OCS-G 01101, located 34 miles from the nearest Louisiana shoreline | 6/30/2009

Persons interested in reviewing environmental documents for the proposals listed above or obtaining information about SEAs and FONSIs prepared by the Gulf of Mexico OCS Region are encouraged to contact MMS at the address or telephone listed in the FOR FURTHER INFORMATION section.

Dated: August 3, 2009.
Lars Herbst,
Regional Director, Gulf of Mexico OCS Region.

[FR Doc. E9-23317 Filed 9-25-09; 8:45 am]

BILLING CODE 4310-MR-P